NATIONAL AERONAUTICS AND SPACE ADMINISTRATION

[Notice: 03-092]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Harry Lupuloff, Code GP, National Aeronautics and Space Administration, Washington, DC 20546-0001.

FOR FURTHER INFORMATION CONTACT: Ms. Nancy Kaplan, NASA Reports Officer, (202) 358-1372.

Title: Patent License Report.

OMB Number: 2700-0010.

Type of review: Extension of a currently approved collection.

Need and Uses: All federal agencies are authorized under 35 U.S.C. 209 and 37 CFR 404.5 to require patent licensees to periodically submit reports which describe the steps taken to achieve and maintain practical application of the licensed inventions. The information is used by NASA attorneys and technology transfer specialists to determine if a licensee is achieving and maintaining practical application of the licensed inventions as required by its license agreement.

Affected Public: Business or other for-profit; Individuals or households.

Number of Respondents: 90.

Responses Per Respondent: 1.

Annual Responses: 90.

Hours Per Request: ½ hour.

Annual Burden Hours: 45.

Frequency of Report: Annually.

Patricia L. Dunnington,
Chief Information Officer, Office of the Administrator.

[FR Doc. 03-19532 Filed 7-30-03; 8:45 am]

BILLING CODE 7510-01-P